UNITED STATES INSTITUTE OF PEACE

Notice of Meeting

AGENCY: United States Institute of Peace.

Date/Time: Friday, April 21, 2017 (10:00 a.m.-2:00 p.m.).

Location: 2301 Constitution Avenue NW., Washington, DC 20037.

Status: Open Session—Portions may be closed pursuant to Subsection (c) of Section 552(b) of Title 5, United States Code, as provided in subsection 1706(h)(3) of the United States Institute of Peace Act, Public Law 98-525.

Agenda: April 21, 2017 Board Meeting: Approval of Minutes of the One Hundred and Sixty First Meeting (February 10, 2017) of the Board of Directors; Chairman's Report; Vice Chairman's Report; President's Report; Reports from USIP Board Committees; Afghanistan Trip Report; and USIP/Military Partnership Report.

Contact: Nick Rogacki, Special Assistant to the President, Email: nrogacki@usip.org.

Dated: April 7, 2017.
Nicholas Rogacki,
Special Assistant to the President.

[FR Doc. 2017-07439 Filed 4-13-17; 8:45 am]

BILLING CODE 6820-AR-P